DEPARTMENT OF HOMELAND SECURITY

Coast Guard

[COTP Houston-Galveston-03-003]

Notice and Request for Comments; Letter of Recommendation, LHG or LNG, Freeport, TX

AGENCY: Coast Guard, DHS.

ACTION: Notice and request for public comment.

SUMMARY: The U.S. Coast Guard Captain of the Port, Houston-Galveston (COTP), is preparing a letter of recommendation as to the suitability of the Brazos River waterway for liquefied hazardous gas (LHG) or liquefied natural gas (LNG) marine traffic. The COTP is looking for comments and related material pertaining specifically to the Maritime Operation, Waterways Management, and Port Security aspects of the proposed LHG and LNG Facility.

DATES: Comments and related material pertaining specifically to the Maritime Operation, Waterways Management, and Port Security aspects of the proposed LNG Facility must reach the Coast Guard on or before August 29, 2003.

ADDRESSES: You may mail comments and related material to: Commanding Officer, U.S. Coast Guard Marine Safety Unit, PO Box 0149, Galveston, TX 77553-0149, ATTN: Marine Transportation Branch.

You may send comments and related material by fax to: U.S. Coast Guard Marine Safety Unit (MSU) Galveston, Attention: Marine Transportation Branch, at (409) 766-5468.

U.S. Coast Guard Marine Safety Unit (MSU) Galveston maintains a file for this notice. Comments and material received from the public during the comment period will become part of this file and will be available for inspection or copying at U.S. Coast Guard MSU Galveston, Marine Transportation Branch, between the hours of 8 a.m. to 4:30 p.m., Monday through Friday, excluding federal holidays.

FOR FURTHER INFORMATION CONTACT: LTJG Ben Allen at U.S. Coast Guard MSU Galveston, at (409) 766-5437.

SUPPLEMENTARY INFORMATION:

Request for Comments

We encourage you to participate by submitting comments and related material pertaining specifically to the Maritime Operation, Waterways Management, and Port Security aspects of the proposed liquefied natural gas (LNG) Facility. If you do so, please include your name and address, identify the docket number [COTP Houston-Galveston-03-003], indicate the specific section of this document to which each comment applies, and give the reason for each comment. Please submit all comments and related material in an unbound format, no larger than 8½ by 11 inches, suitable for copying and electronic filing. For a returned receipt, please enclose a stamped, self-addressed postcard or envelope. We will consider all comments and material received during the comment period. The recommendation made by this office may be affected by comments received.

Public Meeting

We do not now plan to hold public meetings or hearings. But you may submit a request for meetings or hearing by writing to Commanding Officer, U.S. Coast Guard MSU Galveston at the address under ADDRESSES explaining why they would be beneficial. If we determine that public hearings or meetings would benefit the recommendation process, we will hold them at a time and place announced by a later notice in the Federal Register.

Background and Purpose

In accordance with the requirements in 33 CFR 127.009, the U.S. Coast Guard Captain of the Port, Houston-Galveston (COTP), is preparing a letter of recommendation as to the suitability of the Brazos River waterway for liquefied hazardous gas (LHG) or liquefied natural gas (LNG) marine traffic. The letter of recommendation is in response to a Letter of Intent to operate a LNG facility in Freeport, Texas. This facility would consist of an LNG import terminal and storage facilities and 9.38 miles of 36-inch-diameter pipeline in Brazoria County.

Freeport LNG Development LP proposes to build a new LNG import, storage, and vaporization terminal on Quintana Island, southeast of Freeport, Texas; and a natural gas pipeline to transfer up to 1.5 billion cubic feet per day of imported natural gas to the Texas market. Construction of the proposed LNG facility would require about 45.7 acres of land for the marine terminal. Freeport LNG Development LP seeks authority to construct and operate the following new facilities at its proposed site:

• LNG ship docking and unloading facilities with a protected single berth equipped with mooring and breasting dolphins, three liquid unloading arms, and one vapor return arm;

• Two 26-inch-diameter (32-inch outside diameter) LNG transfer lines and one 16-inch-diameter vapor return line;

• Service lines (instrument air, nitrogen, potable water, and firewater);

• Fire response system, flare, construction dock, utilities, buildings, and service facilities;

• 9.38 miles of 36-inch-diameter natural gas pipeline extending from the LNG import terminal to a proposed Stratton Ridge Meter Station, and;

• Other structures and facilities not related specifically to the Marine Transfer aspect of this Facility.

Freeport LNG Development LP is requesting approval such that the terminal and pipeline are completed and placed into service in time to meet natural gas demand during the 2006-2007 winter heating season. Construction of the facilities would take about 3 years.

In preparation for issuance of the letter of recommendation, the COTP will consider all information submitted by the owner or operator under the requirements of 33 CFR 127.007, as well as comments received from the public.

Additional Information

Additional information can be found in the Federal Energy Regulatory Commission Document entitled “Notice of Intent To Prepare an Environmental Impact Statement for the Proposed Freeport LNG Project and Request for Comments on Environmental Issues and Notice of Public Scoping Meeting and Site Visit”, Docket No. CP03-75-000 dated May 13, 2003, which is available for download at http://www.ferc.gov.

Dated: July 9, 2003.
Kevin S. Cook,
Captain, U.S. Coast Guard, Captain of the Port, Houston-Galveston, Eighth Coast Guard District.

[FR Doc. 03-19412 Filed 7-29-03; 8:45 am]

BILLING CODE 4910-15-P